DEPARTMENT OF AGRICULTURE

Forest Service

Missouri River Resource Advisory Committee Meeting

AGENCY: Forest Service, USDA.

ACTION: Notice of meeting.

SUMMARY: The Helena National Forest's Missouri River Resource Advisory Committee (RAC) will meet on Tuesday, November 9, 2010 from 6 p.m. until 9 p.m., in Helena, Montana. The purpose of the meeting is to conduct welcomes and introductions, discuss the status of the RAC charter and committee membership vacancies, discuss and vote on Teton County joining this RAC, review and discuss project proposals, make project approval and funding decisions, set a next meeting date and receive public comment on the meeting subjects and proceedings.

DATES: Tuesday, November 9, 2010 from 6 p.m. until 9 p.m.

ADDRESSES: The meeting will be held at the USDA-Helena National Forest office located at 2880 Skyway Drive, Helena, Montana 59602 (MT 59602).

FOR FURTHER INFORMATION CONTACT: Kathy Bushnell, Committee Coordinator, Helena National Forest, 2880 Skyway Drive, Helena, Montana 59602 Phone: 406-495-3747; E-mail: kbushnell@fs.fed.us.

SUPPLEMENTARY INFORMATION: Agenda items to be covered include: (1) Welcome and introductions; (2) review and approve previous meeting minutes;(3) briefly update committee on RAC administrative items and membership nomination process; (4) discuss and decide on Teton County request to join RAC; (5) review, discuss and approve projects and funding; (6) set next meeting purpose, location and date; (7) and receive public comment. The meeting is open to the public. Public input opportunity will be provided and individuals will have the opportunity to address the Committee at that time.

Dated: September 22, 2010.
Duane H. Harp,
Helena District Ranger, Helena National Forest, RAC Designated Federal Official.

[FR Doc. 2010-24728 Filed 9-30-10; 8:45 am]

BILLING CODE 3410-11-P